DEPARTMENT OF ENERGY

Federal Energy Regulatory Commission

Combined Notice of Filings

Take notice that the Commission has received the following Natural Gas Pipeline Rate and Refund Report filings:

Filings Instituting Proceedings

Docket Numbers: RP12-630-000.

Applicants: Great Lakes Gas Transmission Limited Partnership.

Description: Great Lakes Gas Transmission Limited Partnership Annual Operational Purchases and Sales Report for 2011.

Filed Date: 4/24/12.

Accession Number: 20120424-5108.

Comments Due: 5 p.m. ET 5/7/12.

Docket Numbers: RP12-631-000.

Applicants: Questar Overthrust Pipeline Company.

Description: Change of Business FAX Number to be effective 5/25/2012.

Filed Date: 4/25/12.

Accession Number: 20120425-5000.

Comments Due: 5 p.m. ET 5/7/12.

Docket Numbers: RP12-632-000.

Applicants: Questar Pipeline Company.

Description: Change of Business FAX Number to be effective 5/25/2012.

Filed Date: 4/25/12.

Accession Number: 20120425-5001.

Comments Due: 5 p.m. ET 5/7/12.

Docket Numbers: RP12-633-000.

Applicants: Questar Southern Trails Pipeline Company.

Description: Change of Business FAX Number to be effective 5/25/2012.

Filed Date: 4/25/12.

Accession Number: 20120425-5002.

Comments Due: 5 p.m. ET 5/7/12.

Docket Numbers: RP12-634-000.

Applicants: White River Hub, LLC.

Description: Change of Business FAX Number to be effective 5/25/2012.

Filed Date: 4/25/12.

Accession Number: 20120425-5003.

Comments Due: 5 p.m. ET 5/7/12.

Docket Numbers: RP12-635-000.

Applicants: Natural Gas Pipeline Company of America LLC.

Description: Removal of Expiring Negotiated Rate Agreements to be effective 5/1/2012.

Filed Date: 4/25/12.

Accession Number: 20120425-5065.

Comments Due: 5 p.m. ET 5/7/12.

Docket Numbers: RP12-636-000.

Applicants: Gulf Crossing Pipeline Company LLC.

Description: Modify 90 Day Rule to be effective 6/1/2012.

Filed Date: 4/25/12.

Accession Number: 20120425-5092.

Comments Due: 5 p.m. ET 5/7/12.

Docket Numbers: RP12-637-000.

Applicants: Gulf Crossing Pipeline Company LLC.

Description: Antero 2 to Tenaska 461 Capacity Release Negotiated Rate Agreement filing to be effective 5/1/2012.

Filed Date: 4/25/12.

Accession Number: 20120425-5096.

Comments Due: 5 p.m. ET 5/7/12.

Docket Numbers: RP12-638-000.

Applicants: Texas Gas Transmission, LLC.

Description: Amendment to Negotiated Rate Agreement—Southwestern 27434 to be effective 5/1/2012.

Filed Date: 4/25/12.

Accession Number: 20120425-5133.

Comments Due: 5 p.m. ET 5/7/12.

Docket Numbers: RP12-639-000.

Applicants: Gas Transmission Northwest LLC.

Description: Gas Transmission Northwest LLC submits tariff filing per 154.204: Maps 2012 to be effective 5/28/2012.

Filed Date: 4/26/12.

Accession Number: 20120426-5047.

Comments Due: 5 p.m. ET 5/8/12.

Docket Numbers: RP12-640-000.

Applicants: Portland Natural Gas Transmission System.

Description: Portland Natural Gas Transmission System submits tariff filing per 154.204: Maps 2012 to be effective 5/28/2012.

Filed Date: 4/26/12.

Accession Number: 20120426-5048.

Comments Due: 5 p.m. ET 5/8/12.

Docket Numbers: RP12-641-000.

Applicants: ANR Storage Company.

Description: ANR Storage Company Operational Purchases and Sales of Gas Report for 2011.

Filed Date: 4/26/12.

Accession Number: 20120426-5069.

Comments Due: 5 p.m. ET 5/8/12.

Docket Numbers: RP12-642-000.

Applicants: Blue Lake Gas Storage Company.

Description: Blue Lake Gas Storage Company Operational Purchases and Sales of Gas Report for 2011.

Filed Date: 4/26/12.

Accession Number: 20120426-5070.

Comments Due: 5 p.m. ET 5/8/12.

Docket Numbers: RP12-643-000.

Applicants: Bison Pipeline LLC.

Description: Bison Pipeline LLC Operational Purchases and Sales of Gas Report for 2011.

Filed Date: 4/26/12.

Accession Number: 20120426-5071.

Comments Due: 5 p.m. ET 5/8/12.

Docket Numbers: RP12-644-000.

Applicants: Natural Gas Pipeline Company of America LLC.

Description: Natural Gas Pipeline Company of America LLC submits tariff filing per 154.204: Iberdrola Energy Negotiated Rate to be effective 5/1/2012.

Filed Date: 4/26/12.

Accession Number: 20120426-5076.

Comments Due: 5 p.m. ET 5/8/12.

Docket Numbers: RP12-645-000.

Applicants: ANR Pipeline Company.

Description: ANR Pipeline Company submits tariff filing per 154.204: Maps 2012 to be effective 5/28/2012.

Filed Date: 4/26/12.

Accession Number: 20120426-5109.

Comments Due: 5 p.m. ET 5/8/12.

Docket Numbers: RP12-646-000.

Applicants: Northern Natural Gas Company.

Description: Northern Natural Gas Company submits tariff filing per 154.204: 20120426 DCP and Eagle Rock Non-conforming to be effective 5/27/2012.

Filed Date: 4/26/12.

Accession Number: 20120426-5126.

Comments Due: 5 p.m. ET 5/8/12.

Docket Numbers: RP12-647-000.

Applicants: CenterPoint Energy—Mississippi River Transmission, LLC.

Description: CenterPoint Energy—Mississippi River Transmission, LLC submits tariff filing per 154.204: Negotiated Rates Filing 5/1/2012 for CES 3641 and LER 3621 to be effective 5/1/2012.

Filed Date: 4/26/12.

Accession Number: 20120426-5133.

Comments Due: 5 p.m. ET 5/8/12.

Docket Numbers: RP12-648-000.

Applicants: Kern River Gas Transmission Company.

Description: Kern River Gas Transmission Company submits tariff filing per 154.204: 2012 April Revisions to be effective 4/1/2012.

Filed Date: 4/26/12.

Accession Number: 20120426-5134.

Comments Due: 5 p.m. ET 5/8/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-88-002.

Applicants: National Fuel Gas Supply Corporation.

Description: RP12-88 Interim Settlement Rates to be effective 5/1/2012.

Filed Date: 4/24/12.

Accession Number: 20120424-5109.

Comments Due: 5 p.m. ET 5/7/12.

Docket Numbers: RP12-624-001.

Applicants: Texas Eastern Transmission, LP.

Description: Texas Eastern Transmission, LP submits tariff filing per 154.205(b): TETLP 2012 Tariff Map Filing Amendment to be effective 5/21/2012.

Filed Date: 4/26/12.

Accession Number: 20120426-5114.

Comments Due: 5 p.m. ET 5/8/12.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 26, 2012 .
Nathaniel J. Davis, Sr.,
Deputy Secretary.

[FR Doc. 2012-10774 Filed 5-3-12; 8:45 am]

BILLING CODE 6717-01-P